DEPARTMENT OF HOMELAND SECURITY

Federal Emergency Management Agency

[Docket ID FEMA-2018-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of December 21, 2018 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

David I. Maurstad,
Deputy Associate Administrator for Insurance and Mitigation, Department of Homeland Security, Federal Emergency Management Agency.

Community | Community map repository address
Alameda County, California and Incorporated Areas
Docket No.: FEMA-B-1532
City of Alameda | City Hall West, 950 West Mall Square, Room 110, Alamada, CA 94501.
City of Albany | City Hall, 1000 San Pablo Avenue, Albany, CA 94706.
City of Berkeley | Permit Service Center, 2120 Milvia Street, Berkeley, CA 94704.
City of Emeryville | Engineering Department, 1333 Park Avenue, Emeryville, CA 94608.
City of Hayward | City Hall, 777 B Street, Hayward, CA 94541.
City of Oakland | Permit Center, 250 Frank H. Ogawa Plaza, Room 2114, 2nd Floor, Oakland, CA 94612.
City of San Leandro | Division of Building and Safety, 835 East 14th Street, San Leandro, CA 94577.
Unincorporated Areas of Alameda County | Public Works Agency, 399 Elmhurst Street, #113, Hayward, CA 94544.
Los Angeles County, California and Incorporated Areas
Docket Nos.: FEMA-B-1553, FEMA-B-1664 & FEMA-B-1720
City of Culver City | City Hall, 9770 Culver Boulevard, 2nd Floor, Culver City, CA 90232.
City of Los Angeles | Department of Public Works, 1149 South Broadway, Suite 810, Los Angeles, CA 90015.
Unincorporated Areas of Los Angeles County | Los Angeles County Watershed Management, 900 South Fremont Avenue, Alhambra, CA 91803.
Jasper County, Indiana and Incorporated Areas
Docket Nos.: FEMA-B-1276 and FEMA-B-1648
City of Rensselaer | City Hall, Building Department, 124 South Van Rensselaer Street, Rensselaer, IN 47978.
Town of DeMotte | Town Hall, 112 Carnation Street SE, DeMotte, IN 46310.
Town of Remington | Town Hall, 24 South Indiana Street, Remington, IN 47977.
Town of Wheatfield | Town Hall, 170 South Grace Street, Wheatfield, IN 46392.
Unincorporated Areas of Jasper County | Jasper County Planning and Development, Jasper County Courthouse, 115 West Washington Street, Suite 109, Rensselaer, IN 47978.
Lafayette Parish, Louisiana and Incorporated Areas
Docket No.: FEMA-B-1515 and FEMA-B-1724
City of Broussard | City Hall, 310 East Main Street, Broussard, LA 70518.
City of Carencro | City Hall, Planning Department, 210 East St. Peter Street, Carencro, LA 70520.
City of Lafayette | Department of Planning, Zoning and Development, 220 West Willow Street, Building B, Lafayette, LA 70501.
City of Scott | City Hall, 125 Lions Club Road, Scott, LA 70583.
City of Youngsville | City Hall, 305 Iberia Street, Youngsville, LA 70592.
Town of Duson | Town Hall, 498 Toby Mouton Road, Duson, LA 70529.
Unincorporated Areas Lafayette Parish | Department of Planning, Zoning and Development, 220 West Willow Street, Building B, Lafayette, LA 70501.
Carver County, Minnesota and Incorporated Areas
Docket No.: FEMA-B-1657
City of Carver | City Hall, 801 Jonathan Carver Parkway, Carver, MN 55315.
City of Chanhassen | City Hall, Planning Department, 7700 Market Boulevard, Chanhassen, MN 55317.
City of Chaska | City Hall, One City Hall Plaza, Chaska, MN 55318.
City of Cologne | City Hall, 1211 Village Parkway, Cologne, MN 55322.
City of Mayer | City Hall, 413 Blue Jay Avenue, Mayer, MN 55360.
City of New Germany | Carver County Courthouse, Public Health & Environment Division, 600 East 4th Street, Chaska, MN 55318.
City of Norwood Young America | City Hall, 310 Elm Street West, Norwood Young America, MN 55368.
City of Victoria | City Hall, 1670 Stieger Lake Lane, Victoria, MN 55386.
City of Waconia | City Hall, 201 South Vine Street, Waconia, MN 55387.
City of Watertown | City Hall, 309 Lewis Avenue South, Watertown, MN 55388.
Unincorporated Areas of Carver County | Carver County Courthouse, Public Health & Environment Division, 600 East 4th Street, Chaska, MN 55318.

[FR Doc. 2018-23383 Filed 10-25-18; 8:45 am]

BILLING CODE 9110-12-P